SURFACE TRANSPORTATION BOARD

[Docket No. FD 36818]

Central Oregon & Pacific Railroad, Inc.—Lease and Operation Exemption Including Interchange Commitment—Union Pacific Railroad Company

Central Oregon & Pacific Railroad, Inc. (CORP), a Class III rail carrier, has filed a verified notice of exemption pursuant to 49 CFR 1150.41 to lease from Union Pacific Railroad Company (UP) and operate the (1) Brooklyn Subdivision from milepost 616 to milepost 660.58; (2) the Springfield and Marcola Industrial Leads from milepost 646.58 to milepost 648.39 in Springfield, Or.; and (3) the Coos Bay Industrial Lead from milepost 648.2 to milepost 652.11 in Eugene, Or., totaling approximately 27.58 miles (the Line).¹

¹ CORP will also lease certain related excepted track under 49 U.S.C. 10906 and the Eugene yard, at Eugene.

According to the verified notice, UP is the current operator of the Line. CORP states that it has entered into an agreement with UP to lease and operate the Line.

CORP certifies that its projected annual revenues as a result of this transaction will not exceed those that would qualify it as a Class III rail carrier but its annual revenues currently exceed $5,000,000. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. In an exhibit attached to its verified notice of exemption, CORP certified that notice of the transaction was posted at the workplaces of current UP employees on the Line on December 10, 2024, and that it was concurrently serving a copy of the certification and the verified notice on the national offices of the labor unions for those employees.

According to the verified notice, the lease contains an interchange commitment. CORP has provided additional information regarding the interchange commitment, as required by 49 CFR 1150.43(h).²

² CORP filed a copy of the agreement under seal with the verified notice. See 49 CFR 1150.43(h)(1).

The earliest this transaction may be consummated is February 8, 2025 (60 days after the certification under 49 CFR 1150.42(e) was filed).

If the verified notice contains false or misleading information, the exemption is void ab initio. Petitions to revoke the exemption under 49 U.S.C. 10502(d) may be filed at any time. The filing of a petition to revoke will not automatically stay the effectiveness of the exemption. Petitions for stay must be filed no later than January 31, 2025.

All pleadings, referring to Docket No. FD 36818, must be filed with the Surface Transportation Board either via e-filing on the Board's website or in writing addressed to 395 E Street SW, Washington, DC 20423-0001. In addition, a copy of each pleading must be served on CORP's representative, Eric M. Hocky, Clark Hill PLC, Two Commerce Square, 2001 Market Street, Suite 2620, Philadelphia, PA 19103.

According to CORP, this action is categorically excluded from environmental review under 49 CFR 1105.6(c) and from historic preservation reporting requirements under 49 CFR 1105.8(b).

Board decisions and notices are available at www.stb.gov.

Decided: December 18, 2024.
By the Board, Scott M. Zimmerman, Acting Director, Office of Proceedings.
Jeffrey Herzig,
Clearance Clerk.

[FR Doc. 2024-30607 Filed 12-23-24; 8:45 am]

BILLING CODE 4915-01-P